DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Thursday and Friday, May 25 and 26, 2006, in Calistoga, California. On May 25, the council members will convene at 10 a.m. at the Calistoga Spa Hot Springs, 1006 Washington St., Calistoga, and depart immediately for a field tour of geothermal energy facilities operated in the Geysers area. Members of the public are welcome. They must provide their own transportation and lunch. On May 26, the business meeting convenes at 8 a.m. in the Conference Room of the Calistoga Spa Hot Springs. Public comments will be heard at 1 p.m.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics will include a discussion about recreation fee cost recovery, management of the Sacramento River Bend area near Redding, a briefing on the BLM's Ukiah Resource Management Plan, a status report on the Salmon Creek Resources land exchange, a briefing on the Western Utility Corridor Study and a report on formation of Recreation Resource Advisory Councils. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: March 20, 2006.
Joseph J. Fontana,
Public Affairs Officer.

[FR Doc. E6-4329 Filed 3-24-06; 8:45 am]

BILLING CODE 4310-40-P